DEPARTMENT OF COMMERCE

National Oceanic and Atmospheric Administration

50 CFR Part 679

[Docket No. 180713633-9174-02]

RIN 0648-XY034

Fisheries of the Exclusive Economic Zone Off Alaska; Several Groundfish Species in the Bering Sea and Aleutian Islands Management Area

AGENCY: National Marine Fisheries Service (NMFS), National Oceanic and Atmospheric Administration (NOAA), Commerce.

ACTION: Temporary rule; apportionment of reserves; request for comments.

SUMMARY: NMFS apportions amounts of the non-specified reserve to the initial total allowable catch (ITAC) and Community Development Quota (CDQ) of Bering Sea and Aleutian Islands (BSAI) arrowtooth flounder and to the ITAC of Aleutian Islands (AI) Greenland turbot, AI sablefish, Bering Sea (BS) sablefish, BS “other rockfish,” Bering Sea and Eastern Aleutian Islands (BS/EAI) blackspotted/rougheye rockfish, Central Aleutian Islands and Western Aleutian Islands (CAI/WAI) blackspotted/rougheye rockfish, BSAI northern rockfish, BSAI sharks, and BSAI shortraker rockfish. This action is necessary to allow the fisheries to continue operating. It is intended to promote the goals and objectives of the fishery management plan for the BSAI management area.

DATES: Effective September 18, 2019, through 2400 hrs, Alaska local time, December 31, 2019. Comments must be received at the following address no later than 4:30 p.m., Alaska local time, October 3, 2019.

ADDRESSES: Submit your comments, identified by docket number NOAA-NMFS-2018-0089, by either of the following methods:

• Electronic Submission: Submit all electronic public comments via the Federal e-Rulemaking Portal. Go to https://www.regulations.gov/docket?D=NOAA-NMFS-2018-0089, click the “Comment Now!” icon, complete the required fields, and enter or attach your comments.

• Mail: Submit written comments to Glenn Merrill, Assistant Regional Administrator, Sustainable Fisheries Division, Alaska Region NMFS. Mail comments to P.O. Box 21668, Juneau, AK 99802-1668.

Instructions: NMFS may not consider comments if they are sent by any other method, to any other address or individual, or received after the comment period ends. All comments received are a part of the public record and NMFS will post the comments for public viewing on www.regulations.gov without change. All personal identifying information (e.g., name, address, etc.), confidential business information, or otherwise sensitive information submitted voluntarily by the sender is publicly accessible. NMFS will accept anonymous comments (enter “N/A” in the required fields if you wish to remain anonymous).

FOR FURTHER INFORMATION CONTACT: Steve Whitney, 907-586-7228.

SUPPLEMENTARY INFORMATION: NMFS manages the groundfish fishery in the (BSAI) exclusive economic zone according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2019 ITAC of AI Greenland turbot was established as 144 metric tons (mt), the 2019 CDQ and ITAC of AI sablefish was established as 1,971 mt, the 2019 CDQ and ITAC of BS sablefish was established as 1,433 mt, the 2019 ITAC of BS “other rockfish” was established as 234 mt, the 2019 ITAC of BS/EAI blackspotted/rougheye rockfish was established as 64 mt, the 2019 ITAC of CAI/WAI blackspotted/rougheye rockfish was established as 173 mt, the 2019 CDQ and ITAC of BSAI arrowtooth flounder was established as 7,656 mt, the 2019 ITAC of BSAI northern rockfish was established as 5,525 mt, the 2019 ITAC of BSAI sharks was established as 106 mt, and the 2019 ITAC of BSAI shortraker rockfish was established as 304 mt by the final 2019 and 2020 harvest specifications for groundfish of the BSAI (84 FR 9000, March 13, 2019). In accordance with § 679.20(a)(3) the Regional Administrator, Alaska Region, NMFS, has reviewed the most current available data and finds that the ITACs for AI Greenland turbot, AI sablefish, BS sablefish, BS “other rockfish,” BS/EAI blackspotted/rougheye rockfish, CAI/WAI blackspotted/rougheye rockfish, BSAI northern rockfish, BSAI sharks, BSAI shortraker rockfish, and the CDQ and ITAC for BSAI arrowtooth flounder need to be supplemented from the non-specified reserve to promote efficiency in the utilization of fishery resources in the BSAI and allow fishing operations to continue.

Therefore, in accordance with § 679.20(b)(3), NMFS apportions from the non-specified reserve of groundfish to ITACs and CDQ in the BSAI management area as follows: 25 mt to AI Greenland turbot, 37 mt to AI sablefish, 56 mt to BS sablefish, 450 mt to BS “other rockfish,” 11 mt to BS/EAI blackspotted/rougheye rockfish, 31 mt to CAI/WAI blackspotted/rougheye rockfish, 1,344 mt to BSAI arrowtooth flounder, 3,000 mt to BSAI northern rockfish, 19 mt to BSAI sharks, and 54 mt to BSAI shortraker rockfish. These apportionments are consistent with § 679.20(b)(1)(i) and do not result in overfishing of any target species because the revised ITACs and total allowable catches (TACs) are equal to or less than the specifications of the acceptable biological catch in the final 2019 and 2020 harvest specifications for groundfish in the BSAI (84 FR 9000, March 13, 2019).

The harvest specification for the 2019 ITACs and TACs included in the harvest specifications for groundfish in the BSAI are revised as follows: 169 mt for AI Greenland turbot, 2,008 mt for AI sablefish, 1,489 mt for BS sablefish, 684 mt for BS “other rockfish,” 75 mt for BS/EAI blackspotted/rougheye rockfish, 204 mt for CAI/WAI blackspotted/rougheye rockfish, 9,000 mt for BSAI arrowtooth flounder, 8,525 mt for BSAI northern rockfish, 125 mt for BSAI sharks, and 358 mt for BSAI shortraker rockfish.

Classification

This action responds to the best available information recently obtained from the fishery. The Assistant Administrator for Fisheries, NOAA, (AA) finds good cause to waive the requirement to provide prior notice and opportunity for public comment pursuant to the authority set forth at 5 U.S.C. 553(b)(B) and § 679.20(b)(3)(iii)(A) as such a requirement is impracticable and contrary to the public interest. This requirement is impracticable and contrary to the public interest as it would prevent NMFS from responding to the most recent fisheries data in a timely fashion and would delay the apportionment of the non-specified reserves of groundfish to the AI Greenland turbot, AI sablefish, BS sablefish, BS “other rockfish,” BS/EAI blackspotted/rougheye rockfish, CAI/WAI blackspotted/rougheye rockfish, BSAI arrowtooth flounder, BSAI northern rockfish, BSAI sharks, and BSAI shortraker rockfish. Immediate notification is necessary to allow for the orderly conduct and efficient operation of this fishery, to allow the industry to plan for the fishing season, and to avoid potential disruption to the fishing fleet and processors. NMFS was unable to publish a notice providing time for public comment because the most recent, relevant data only became available as of September 11, 2019.

The AA also finds good cause to waive the 30-day delay in the effective date of this action under 5 U.S.C. 553(d)(3). This finding is based upon the reasons provided above for waiver of prior notice and opportunity for public comment.

Under § 679.20(b)(3)(iii), interested persons are invited to submit written comments on this action (see ADDRESSES) until October 3, 2019.

This action is required by § 679.20 and is exempt from review under Executive Order 12866.

Authority: 16 U.S.C. 1801 et seq.

Dated: September 18, 2019.
Jennifer M. Wallace,
Acting Director, Office of Sustainable Fisheries, National Marine Fisheries Service.

[FR Doc. 2019-20556 Filed 9-18-19; 4:15 pm]

BILLING CODE 3510-22-P